DEPARTMENT OF ENERGY

Federal Energy Regulatory Commission

[Docket No. IC21-8-000]

Commission Information Collection Activities (FERC-512); Comment Request; Extension

AGENCY: Federal Energy Regulatory Commission, Department of Energy.

ACTION: Notice of information collection and request for comments.

SUMMARY: In compliance with the requirements of the Paperwork Reduction Act of 1995, the Federal Energy Regulatory Commission (Commission or FERC) is soliciting public comment on a renewal of currently approved information collection, FERC-512 (Preliminary Permit).

DATES: Comments on the collection of information are due March 12, 2021.

ADDRESSES: You may submit comments (identified by Docket No. IC21-8-000) by one of the following methods:

• eFiling at Commission's Website: http://www.ferc.gov.

• U.S. Postal Service Mail: Persons unable to file electronically may mail similar pleadings to the Federal Energy Regulatory Commission, Office of the Secretary, 888 First Street NE, Washington, DC 20426.

• Delivery of filings other than by eFiling or the U.S. Postal Service should be delivered to Federal Energy Regulatory Commission, Office of the Secretary, 12225 Wilkins Avenue, Rockville, Maryland 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, telephone at (202) 502-8663.

SUPPLEMENTARY INFORMATION:

Title: FERC-512, Preliminary Permit.

OMB Control No.: 1902-0073.

Type of Request: Three-year approval of the FERC-512 information collection requirements, with no changes to the current reporting requirements.

Abstract: The Commission regulates nonfederal hydropower projects on navigable waters and federal lands pursuant to the Federal Power Act (FPA).¹ The FERC-512 is an application for a preliminary permit or to extend a preliminary permit term. Preliminary permits, issued for up to four years, preserve the right of permit holders to have first priority in applying for a license for a project being studied, but do not authorize construction of any facilities. Nor does a preliminary permit allow the use of eminent domain to acquire lands for the project. The preliminary permits are issued pursuant to sections 4(f), 5, and 7 of the FPA. Preliminary permits may be extended one time for up to four additional years, pursuant to section 5 of the FPA. The purpose of obtaining a preliminary permit is to maintain priority status for an application for a license while the applicant conducts site examinations and surveys to prepare maps, plans, specifications, and estimates. This period of time also provides the applicant with the opportunity to conduct engineering, economic, and environmental feasibility studies in addition to making the financial arrangements for funding the construction of the project. No other application for a preliminary permit or application for license submitted by another party can be accepted during the permit term. The application for a preliminary permit is used by Commission staff to assess the scope of the proposed project, the technology to be used, and jurisdictional aspects of the project. The staff assessment includes a review of the proposed hydro development for conflicts with other permits or existing projects and public notice of the application to solicit public and agency comments. The application for a one-time extension, up to four years, of a preliminary permit is used by Commission staff to determine if a permittee has met the 2018 Water Infrastructure Act's good faith and reasonable diligence standard. An application for a preliminary permit includes an initial statement and three numbered exhibits, per 18 CFR 4.81. The initial statement includes information on the applicant, the project, the requested term of the permit, affected political jurisdictions, and a verification of the facts.

¹ 16 U.S.C. 791a-825r (2012).

Type of Respondents: Business or other for-profit and not for-profit institutions.

Estimate of Annual Burden ²and Cost: ³ The Commission estimates as shown below in the table:

² Burden is defined as the total time, effort, or financial resources expended by persons to generate, maintain, retain, or disclose or provide information to or for a Federal agency. For further explanation of what is included in the information collection burden, refer to 5 Code of Federal Regulations 1320.3.

³ Commission staff estimates that the industry's skill set and cost (for wages and benefits) for FERC-512 are approximately the same as the Commission's average cost. The FERC 2020 average salary plus benefits for one FERC full-time equivalent (FTE) is $172,329/year (or $83.00/hour).

FERC-512—(Preliminary Permit)
| Number of respondents | Annual number of responses per respondent | Total number of responses | Average burden hours & cost per response | Total annual burden hours & total annual cost | Average annual cost per respondent
| (1) | (2) | (1)*(2)=(3) | (4) | (3)*(4)=(5) | (5)÷(1)
Annual Reporting and Recordkeeping | 50 | 1 | 50 | 24 hrs.; $1,992 | 1,200 hrs.; $99,600 | $1,992
TOTAL FERC-512 | 50 | 1 | 50 | 24 hrs.; $1,992 | 1,200 hrs.; $99,600 | $1,992

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: January 5, 2021.
Nathaniel J. Davis, Sr.,
Deputy Secretary.

[FR Doc. 2021-00262 Filed 1-8-21; 8:45 am]

BILLING CODE 6717-01-P